DEPARTMENT OF DEFENSE

Office of the Secretary

Defense Science Board

AGENCY: Department of Defense.

ACTION: Notice of advisory committee meeting date change.

SUMMARY: On Thursday, September 17, 2009 (74 FR 47787) the Department of Defense announced closed meetings of the Defense Science Board (DSB) Fall quarterly. These meetings have been rescheduled from October 28-29, 2009, to January 11-12, 2010; at the Pentagon. Additional information can be found in the September 17, 2009, notice.

FOR FURTHER INFORMATION CONTACT: Ms. Debra Rose, Executive Officer, Defense Science Board, 3140 Defense Pentagon, Room 3B888A, Washington, DC 20301-3140, via e-mail at debra.rose@osd.mil, or via phone at (703) 571-0084.

Dated: October 21, 2009.
Patricia L. Toppings,
OSD Federal Register Liaison Officer, Department of Defense.

[FR Doc. E9-25761 Filed 10-26-09; 8:45 am]

BILLING CODE 5001-06-P